SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 20, 2004.

ADDRESSES: Send all comments regarding whether this information collection is necessary for the proper performance of the function of the agency, whether the burden estimates are accurate, and if there are ways to minimize the estimated burden and enhance the quality of the collection, to Rachel Newman Karton, Program Manager, Office of Small Business Development Centers, Small Business Administration, 409 3rd Street SW., Suite 6400, Washington, DC 20416.

FOR FURTHER INFORMATION CONTACT: Rachel Newman Karton, Program Manager, (202) 619-1816 or Curtis B. Rich, Management Analyst, (202) 205-7030.

SUPPLEMENTARY INFORMATION: Title: “Quarterly Reports for Drug Free Workplace Program.”

Description of Respondents: Eligible Intermediaries who have received a Drug Free Workplace Program grant.

Form No: N/A.

Annual Responses: 48.

Annual Burden: 1,344.

Jacqueline White,
Chief, Administrative Information Branch.

[FR Doc. 04-23463 Filed 10-19-04; 8:45 am]

BILLING CODE 8025-01-P